DEPARTMENT OF JUSTICE

[AAG/A Order No. 239-2001]

Privacy Act of 1974; System of Records

Correction

In notice document 01-18792 beginning on page 39199 in the issue of Friday, July 27, 2001, make the following correction:

On page 39200, in the second column, in paragraph “H.”, in the first line, “of” should read “or”.

[FR Doc. C1-18792 Filed 8-16-01; 8:45 am]

BILLING CODE 1505-01-D

DEPARTMENT OF JUSTICE

28 CFR PART 16

[AAG/A Order No. 241-2001]

Privacy Act of 1974; Implementation

Correction

In rule document 01-19895 appearing on page 41445 in the issue of Wednesday, August 8, 2001, make the following corrections:

§16.130 [Corrected]

1. On page 41445, in §16.130, in the the second column, in paragraph (1) Subsection (c)(3), in the ninth line, “of” should read “or”.

2. On the same page, in the same section, in the third column, in paragraph (6) Subsection (e)(1), in the fourth line, insert a “, ” after the word “relevant”.

[FR Doc. C1-19895 Filed 8-16-01; 8:45 am]

BILLING CODE 1505-01-D

DEPARTMENT OF JUSTICE

28 CFR Part 16

[AAG/A Order No. 242-2001]

Privacy Act of 1974; Implementation

Correction

In rule document 01-19896 beginning on page 41445 in the issue of Wednesday, August 8, 2001, make the following corrections:

1. On page 41446, in the first column, ÿ7Ein the fourth line, insert “is” after the word “and”.

2. On the same page, in the same column, in the sixth line, “DOG-005”, should read “DOJ-005”.

§16.131 [Corrected]

3. On the same page, in the second column, in §16.131, in paragraph “(3)”, in the 12th line, remove the word “and”.

4. On the same page, in the same column, in the same section, in paragraph “(4)”, in the fourth line, insert “is” after the word “as”.

5. On the same page, in the same column, in the same section, in the same paragraph, in the second line from the bottom, “given” should read “give”.

[FR Doc. C1-19896 Filed 8-16-01; 8:45 am]

BILLING CODE 1505-01-D